DEPARTMENT OF HOMELAND SECURITY

U.S. Customs and Border Protection

[Docket No. USCBP-2012-0001]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on February 21, 2012, in Washington, DC. The meeting will be open to the public. As an alternative to on-site attendance, U.S. Customs and Border Protection (CBP) will also offer a live webcast of the COAC meeting via the Internet.

DATED: COAC will meet on Tuesday, February 21, 2012, from 10 a.m. to 4 p.m. Please note that the meeting may close early if the committee has completed its business.

REGISTRATION: If you plan on attending via webcast, please register online at https://apps.cbp.gov/te_registration/?w=73 by close-of-business on February 17, 2012. Please feel free to share this information with interested members of your organizations or associations. If you plan on attending on-site, please register either online at https://apps.cbp.gov/te_registration/?w=72, or by email to tradeevents@dhs.gov, or by fax to (202) 325-4290 by close-of-business on February 17, 2012.

If you have completed an online webcast registration and wish to cancel your registration, you may do so at https://apps.cbp.gov/te_registration/cancel.asp?w=73. If you have completed an online on-site registration and wish to cancel your registration, you may do so at https://apps.cbp.gov/te_registration/cancel.asp?w=72.

ADDRESSES: The meeting will be held at U.S. Access Board Conference, 1331 F Street NW., Suite 800 in Washington, DC 20004. All visitors report to the lobby in the building.

For information on facilities or services for individuals with disabilities or to request special assistance at the meeting, contact Ms. Wanda Tate, Office of Trade Relations, U.S. Customs and Border Protection at (202) 344-1661 as soon as possible.

To facilitate public participation, we are inviting public comment on the issues to be considered by the committee as listed in the “Agenda” section below.

Comments must be submitted in writing no later than February 15, 2012, and must be identified by USCBP-2012-0001 and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 5.2A, Washington, DC 20229.

Instructions: All submissions received must include the words “Department of Homeland Security” and the docket number for this action. Comments received will be posted without alteration at http://www.regulations.gov, including any personal information provided.

Docket: For access to the docket to read background documents or comments received by the COAC, go to http://www.regulations.gov.

There will be three public comment periods held during the meeting on February 21, 2012. On-site speakers are requested to limit their comments to three (3) minutes. Contact the individual listed below to register as a speaker. Please note that the public comment period for on-site speakers may end before the time indicated on the schedule that is posted on the CBP web page at the time of the meeting. Comments can also be made electronically anytime during the COAC meeting webcast, but please note that webcast participants will not be able to provide oral comments. Comments submitted electronically will be read into the record during the three (3) public comment periods.

FOR FURTHER INFORMATION CONTACT: Ms. Wanda Tate, Office of Trade Relations, U.S. Customs and Border Protection, 1300 Pennsylvania Avenue NW., Room 5.2A, Washington, DC 20229; telephone (202) 344-1440; facsimile (202) 325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will hear from the following subcommittees on the topics listed below and then will review, deliberate, and formulate recommendations on how to proceed on those topics:

• The work of the Global Supply Chain Security Air Cargo Subcommittee: Air Cargo Advance Screening (ACAS) strategic plan for public release.

• The work of the One U.S. Government at the Border Subcommittee: Discussions on the 2012 subcommittee work plan.

• The work of the Intellectual Property Rights (IPR) Enforcement Subcommittee: IPR Distribution Chain Management concept.

Prior to the COAC taking action on any of these topics of the three above-mentioned subcommittees, members of the public will have an opportunity to provide comments orally or, for comments submitted electronically during the meeting, by reading the comments into the record.

The COAC will also receive an update and discuss the following Initiatives and Subcommittee topics that were discussed at its December 7, 2011 meeting:

• The National Supply Chain Security Strategy.

• The CBP Initiatives of the Customs and Trade Partnership Against Terrorism (C-TPAT) program and Beyond the Border (BTB)—Report by the Global Supply Chain Security Land Border Subcommittee.

• The automation of Ocean and Rail manifest, Cargo Release, and other CBP automation pilots in the Automated Commercial Environment (ACE).

• Centralization of single transaction bonds and Coordination of bond issues that apply to other subcommittees—Report by the Bond Subcommittee.

• The evaluation plan regarding Centers of Expertise and Simplified Entry pilot—Report by the Trade Facilitation Subcommittee.

• Feedback received by the agency on previously submitted recommendations—Report by the AD/CVD Subcommittee.

• Feedback received by the agency on previously submitted recommendations—Report by the Role of the Broker Subcommittee.

Dated: January 31, 2012.
Maria Luisa O'Connell,
Senior Advisor for Trade, Office of Trade Relations.

[FR Doc. 2012-2478 Filed 2-2-12; 8:45 am]

BILLING CODE 9111-14-P